DEPARTMENT OF THE INTERIOR

Bureau of Land Management

[LLNVB00000 L71220000.EX0000 LVTFF0986020 241A.00; MO #4500017947; 11-08807; TAS: 14X8069]

Notice of Availability of the Final Supplemental Environmental Impact Statement for the Cortez Hills Expansion Project, Lander County, NV

AGENCY: Bureau of Land Management, Interior.

ACTION: Notice of availability.

SUMMARY: In compliance with the National Environmental Policy Act of 1969 (NEPA), as amended, and the Federal Land Policy and Management Act of 1976 (FLPMA), as amended, the Bureau of Land Management (BLM), Battle Mountain District, Mount Lewis Field Office, Battle Mountain, Nevada, has prepared a Final Supplemental Environmental Impact Statement (EIS) for the Cortez Hills Expansion Project in Lander County, Nevada.

DATES: The BLM will not issue a final decision on the proposal for a minimum of 30 days from the date that the Environmental Protection Agency publishes its notice of availability in the Federal Register.

ADDRESSES: Copies of the Cortez Hills Expansion Project Final Supplemental EIS are available for public inspection at the Battle Mountain District Office, 50 Bastian Road, Battle Mountain, Nevada, during regular business hours of 7:45 a.m. to 4:30 p.m., Monday through Friday, except holidays. Interested persons may also review the Final Supplemental EIS at the following Web site: http://www.blm.gov/nv/st/en/fo/battle_mountain_field.html.

FOR FURTHER INFORMATION CONTACT: Christopher Worthington, (775) 635-4000, or e-mail: Christopher_Worthington@blm.gov.

SUPPLEMENTARY INFORMATION: The BLM signed a Record of Decision and Plan of Operations approval on November 12, 2008, for the Cortez Gold Mines (CGM) Cortez Hills Expansion Project, which is an expansion of existing open-pit gold mining and processing operations in northeastern Nevada. The project entails new surface disturbance of approximately 6,633 acres, which includes 6,412 acres of public land administered by the BLM Battle Mountain District and 221 acres of private land owned by CGM. The Notice of Availability of the Final Cortez Hills Expansion Project EIS was published in the Federal Register on October 3, 2008.

On December 3, 2009, the U.S. Court of Appeals for the Ninth Circuit partially reversed the U.S. District Court of Nevada's denial of preliminary injunctive relief with respect to BLM's environmental analysis of air quality and water resource issues. The BLM subsequently elected to prepare a Supplemental EIS to refine the analysis of potential air quality effects and the dewatering mitigation effectiveness for the Cortez Hills Expansion Project.

A Notice of Intent to prepare a Supplemental EIS was published in the Federal Register on July 16, 2010. The Draft Supplemental EIS was released for public review on August 20, 2010, with a 45-day comment period. Following the release of the Draft Supplemental EIS, two public comment meetings were held, one in Crescent Valley and one in Battle Mountain in September 2010 to solicit additional comments on the document. Comments and resultant changes in the impact analyses are documented in the Final Supplemental EIS.

Ron Wenker,
State Director, Nevada.

Authority: 40 CFR 1501.7.

[FR Doc. 2011-605 Filed 1-13-11; 8:45 am]

BILLING CODE 4310-HC-P